SECURITIES AND EXCHANGE COMMISSION

[File No. 500-1]

Adarna Energy Corporation, Brampton Crest International, Inc., Covenant Group of China Inc., Mobile Area Networks, Inc., Netco Investments, Inc., OneTravel Holdings, Inc., and PDG Environmental, Inc., Order of Suspension of Trading

September 15, 2014.

It appears to the Securities and Exchange Commission that there is a lack of current and accurate information concerning the securities of Adarna Energy Corporation because it has not filed any periodic reports since the period ended September 30, 2012.

It appears to the Securities and Exchange Commission that there is a lack of current and accurate information concerning the securities of Brampton Crest International, Inc. because it has not filed any periodic reports since the period ended September 30, 2011.

It appears to the Securities and Exchange Commission that there is a lack of current and accurate information concerning the securities of Covenant Group of China Inc. because it has not filed any periodic reports since the period ended December 31, 2010.

It appears to the Securities and Exchange Commission that there is a lack of current and accurate information concerning the securities of Mobile Area Networks, Inc. because it has not filed any periodic reports since the period ended March 31, 2012.

It appears to the Securities and Exchange Commission that there is a lack of current and accurate information concerning the securities of Netco Investments, Inc. because it has not filed any periodic reports since the period ended September 30, 2011.

It appears to the Securities and Exchange Commission that there is a lack of current and accurate information concerning the securities of OneTravel Holdings, Inc. because it has not filed any periodic reports since the period ended March 31, 2005.

It appears to the Securities and Exchange Commission that there is a lack of current and accurate information concerning the securities of PDG Environmental, Inc. because it has not filed any periodic reports since the period ended October 31, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. E.D.T. on September 15, 2014, through 11:59 p.m. E.D.T. on September 26, 2014.

By the Commission.
Jill M. Peterson,
Assistant Secretary.

[FR Doc. 2014-22261 Filed 9-15-14; 4:15 pm]

BILLING CODE 8011-01-P